Presidential Determination No. 2004-28 of April 14, 2004

Waiver and Certification of Statutory Provisions Regarding the Palestine Liberation Organization

Memorandum for the Secretary of State

Pursuant to the authority vested in me under section 534(d) of the Foreign Operations, Export Financing, and Related Programs Appropriations Act, 2004, Public Law 108-199, I hereby determine and certify that it is important to the national security interests of the United States to waive the provisions of section 1003 of the Anti-Terrorism Act of 1987, Public Law 100-204.

This waiver shall be effective for a period of 6 months from the date hereof. You are hereby authorized and directed to transmit this determination to the Congress and to publish it in the Federal Register.

B

THE WHITE HOUSE,

Washington, April 14, 2004.

[FR Doc. 04-9186

Filed 4-20-04; 8:45 am]

Billing code 4710-10-P